LEGAL SERVICES CORPORATION

Notice of Availability of Calendar Year 2013 Competitive Grant Funds

AGENCY: Legal Services Corporation.

ACTION: Solicitation for proposals for the provision of civil legal services.

SUMMARY: The Legal Services Corporation (LSC) is the national organization charged with administering Federal funds provided for civil legal services to low-income people.

LSC hereby announces the availability of competitive grant funds and is soliciting grant proposals from interested parties who are qualified to provide effective, efficient and high quality civil legal services to eligible clients in the service area(s) of the states and territories identified below. The exact amount of congressionally appropriated funds and the date, terms, and conditions of their availability for calendar year 2013 have not been determined.

DATES: See SUPPLEMENTARY INFORMATION section for grants competition dates.

ADDRESSES: Legal Services Corporation—Competitive Grants, 3333 K Street NW., Third Floor, Washington, DC 20007-3522.

FOR FURTHER INFORMATION CONTACT: Office of Program Performance by email at competition@lsc.gov, or visit the grants competition Web site at www.grants.lsc.gov.

SUPPLEMENTARY INFORMATION: The Request for Proposals (RFP) will be available the week of April 9, 2012. Applicants must file a Notice of Intent to Compete (NIC) to participate in the competitive grants process. Applicants must file the NIC by May 11, 2012, 5 p.m. E.D.T. Other key application and filing dates including the dates for filing grant applications are published at www.grants.lsc.gov/resources/notices.

LSC is seeking proposals from: (1) Non-profit organizations that have as a purpose the provision of legal assistance to eligible clients; (2) private attorneys; (3) groups of private attorneys or law firms; (4) state or local governments; and (5) sub-state regional planning and coordination agencies that are composed of sub-state areas and whose governing boards are controlled by locally elected officials.

The RFP, containing the NIC and grant application, guidelines, proposal content requirements, service area descriptions, and specific selection criteria, will be available from www.grants.lsc.gov the week of April 9, 2012. LSC will not fax the RFP to interested parties.

Below are the service areas for which LSC is requesting grant proposals. Service area descriptions will be available at www.grants.lsc.gov/about-grants/where-we-fund. LSC will post all updates and/or changes to this notice at www.grants.lsc.gov. Interested parties are asked to visit www.grants.lsc.gov regularly for updates on the LSC competitive grants process.

State | Service Area(s)
Alabama | AL-4.
American Samoa | AS-1.
Arizona | AZ-2, NAZ-5.
California | CA-2, CA-19, CA-26, CA-29, CA-30.
Colorado | CO-6, MCO, NCO-1.
Delaware | MDE.
Florida | FL-5, FL-13, FL-14,FL-15, FL-16, FL-17, FL-18, MFL.
Georgia | GA-1, GA-2, MGA.
Hawaii | HI-1, NHI-1.
Illinois | IL-6, MIL.
Indiana | IN-5, MIN.
Louisiana | LA-10, LA-11.
Maryland | MD-1, MMD.
Massachusetts | MA-4, MA-12.
Michigan | MI-14.
Mississippi | MS-9, NMS-1.
Montana | MT-1, MMT, NMT-1.
Nebraska | MNE.
New Mexico | NM-1, NNM-2.
New York | NY-7, NY-20, NY-21, NY-22, NY-23, NY-24, MNY.
North Carolina | NC-5, MNC, NNC-1.
Oklahoma | OK-3, MOK.
Pennsylvania | PA-1, PA-5, PA-8, PA-23, PA-26, MPA.
Puerto Rico | PR-1, MPR.
South Carolina | SC-8, MSC.

Dated: March 2, 2012.
Janet LaBella,
Director, Office of Program Performance, Legal Services Corporation.

[FR Doc. 2012-5737 Filed 3-30-12; 8:45 am]

BILLING CODE 7050-01-P